POSTAL SERVICE

Privacy Act of 1974; System of Records

AGENCY: Postal Service™.

ACTION: Notice of modification to existing systems of records.

SUMMARY: The United States Postal Service® (Postal Service) is proposing to modify a Customer Privacy Act System of Records (SOR) to support the enforcement of United States customs, export control, and export statistics laws with regards to mailpieces exported from the United States.

Additionally, the Postal Service is establishing a new Customer Privacy Act SOR to enable the collection and maintenance of electronic customs information received from foreign postal operators with regard to inbound, international mail pieces. Such information is intended to support domestic customs, operations, and other processes related to the international exchange of mail.

DATES: These revisions will become effective without further notice on June 2, 2014 unless comments received on or before that date result in a contrary determination.

ADDRESSES: Comments may be mailed or delivered to the Privacy and Records Office, United States Postal Service, 475 L'Enfant Plaza SW., Room 9517, Washington, DC 20260-1101. Copies of all written comments will be available at this address for public inspection and photocopying between 8 a.m. and 4 p.m., Monday through Friday.

FOR FURTHER INFORMATION CONTACT: Matthew J. Connolly, Chief Privacy Officer, Privacy and Records Office, 202-268-8582 or privacy@usps.gov.

SUPPLEMENTARY INFORMATION: This notice is in accordance with the Privacy Act requirement that agencies publish their systems of records in the Federal Register when there is a revision, change, or addition, or when the agency establishes a new system of records. The Postal Service™ has determined that one Customer Privacy Act System of Records should be revised to modify categories of individuals covered by the system, categories of records in the system, authority for maintenance of the system, purpose(s), routine uses of records in the system, including categories of users and the purpose of such uses, retrievability, and system manager(s) and address. Additionally, the Postal Service is creating a new Customer Privacy Act System of Records for customs data on inbound international mailpieces mailed from international locations to the United States.

I. Background

The Postal Service currently collects, stores, and retrieves electronic customs declaration information on mailpieces exported from the United States. This information is provided to domestic customs officials to support United States export requirements. To facilitate the entry and movement of mail throughout the world, the Postal Service also intends to send customs declaration information to postal operators as well as intermediary companies involved in electronic data exchanges.

Furthermore, to facilitate the importation of items into the United States through customs control, the Postal Service is entering into agreements with foreign postal operators that will permit parties to the agreements (i.e., postal operators) to exchange information on international shipments. To enable the Postal Service to maintain and use data received from foreign postal operators pursuant to these agreements, and to ensure that such information is maintained in accordance with the restrictions contained in those agreements, the Postal Service is establishing a new SOR, USPS 900.100, Customs Data Received from Foreign Posts.

II. Rationale for Changes to USPS Privacy Act Systems of Records

The Postal Service is proposing several modifications to SOR 900.000. First, the SOR is being amended to reflect that the Postal Service intends to maintain information on customers shipping to or from international locations as well as customers receiving items shipped to or from international locations. Second, the Postal Service is updating the categories of records in the SOR to account for the collection of additional types of shipment-specific information that is supplied by customers on current customs declaration forms. To complement these changes, the Postal Service is also clarifying that records may be retrieved by any information supplied by the customer on such forms.

Third, the Postal Service is modifying the SOR to enable information maintained in this system to be used to facilitate the enforcement of domestic customs, export control, and export statistics laws. Finally, the Postal Service is amending standard routine use (a) to permit the sharing of information in this system with foreign postal operators and intermediary companies involved in electronic data exchanges with those foreign customs agencies and postal operators. Additional clarifications specify that records are shared with domestic export control agencies. Collectively, these changes are intended to enhance the Postal Service's role in facilitating the movement of cross-border mail, while ensuring that customs and export requirements, as well as governmental objectives for trade statistics reporting, are fulfilled. Technical corrections are also being made to the sections on legal authority and system managers.

As mentioned above, the Postal Service is entering into agreements with foreign postal operators that will permit parties to the agreements (i.e., postal operators) to exchange information on international shipments. SOR 900.100, Customs Data Received from Foreign Posts, will allow the Postal Service to receive and maintain electronic information supplied by foreign posts on mailings sent from foreign jurisdictions to domestic recipients. To facilitate enforcement of domestic customs laws and regulations, the Postal Service intends to disclose such information to domestic customs officials, subject to the conditions of any agreement between the Postal Service and a foreign postal operator transmitting customs data to the Postal Service.

III. Description of Changes to Systems of Records

Pursuant to 5 U.S.C. 552a(e)(11), interested persons are invited to submit written data, views, or arguments on this proposal. A report of the proposed modifications has been sent to Congress and to the Office of Management and Budget for their evaluations. The Postal Service does not expect this amended system of records to have any adverse effect on individual privacy rights. The affected systems are as follows:

USPS 900.000

SYSTEM NAME: International Services

IV. Description of New System of Records

The United States Postal Service is adding a new system of records to its Customer Privacy Act Systems of Records Management System. This new system of records is being established to account for information being collected and stored for inbound international mail and packages. The Postal Service proposes adding the system as shown below:

USPS 900.100

SYSTEM NAME: Customs Data Received from Foreign Posts

Accordingly, for the reasons stated, the Postal Service proposes changes in the existing system of records as follows:

USPS 900.000

SYSTEM NAME:

[CHANGE TO READ]

USPS International Services

CATEGORIES OF INDIVIDUALS COVERED BY THE SYSTEM:

[CHANGE TO READ]

USPS customers shipping to or from international locations. Customers receiving items shipped to or from international locations.

CATEGORIES OF RECORDS IN THE SYSTEM:

* * * * *

[CHANGE TO READ]

3. Information pertaining to mailings: Information supplied through customs declaration forms: Contents, quantity, order number, volume, destination, weight, country of origin, value, Harmonized Commodity Description and Coding System (HS) Tariff number, license or certificate number, Automated Export System (AES) internal transaction number or exemption, signature, date, postage and fees, and type of mailing.

4. Customs barcode scan data.

* * * * *

AUTHORITY FOR MAINTENANCE OF THE SYSTEM:

[CHANGE TO READ]

39 U.S.C. 401, 403, 404, and 407; 13 U.S.C. 301-307; Section 343(a) of the Trade Act of 2002, Public Law 107-210, and 50 U.S.C. 1702.

PURPOSE:

* * * * *

[CHANGE TO READ]

4. To satisfy reporting requirements for customs purposes.

5. To support enforcement of U.S. customs, export control, and export statistics laws.

* * * * *

ROUTINE USES OF RECORDS IN THE SYSTEM, INCLUDING CATEGORIES OF USERS AND THE PURPOSES OF SUCH USES:

* * * * *

[CHANGE TO READ]

a. Customs declaration records may be disclosed to domestic export control and customs agencies and foreign customs agencies and postal operators, as well as intermediary companies involved in electronic data exchanges.

RETRIEVABILITY:

[CHANGE TO READ]

By customer name(s) or address(es) (sender or recipient), ID number(s), information supplied through customs declaration forms, and barcode tracking number(s).

* * * * *

SYSTEM MANAGER(S) AND ADDRESS:

[DELETE TEXT]

Vice President, Global Business, United States Postal Service, 475 L'Enfant Plaza SW., Washington, DC 20260.

[ADD NEW TEXT]

Vice President, Network Operations, United States Postal Service, 475 L'Enfant Plaza SW., Washington, DC 20260.

* * * * *

[ADD NEW TEXT/SYSTEM OF RECORD]

USPS 900.100

SYSTEM NAME:

Customs Data Received From Foreign Posts

SYSTEM LOCATION:

USPS Headquarters, Integrated Business Solutions Services Centers, and USPS facilities.

CATEGORIES OF INDIVIDUALS COVERED BY THE SYSTEM:

Customers shipping from international locations. Customers receiving items shipped from international locations.

CATEGORIES OF RECORDS IN THE SYSTEM:

1. The S10 13-character item identifier or any bilaterally agreed identifier.

2. The full name and postal address of the mailer.

3. The name and postal address of the intended recipient.

4. The gross weight of the item.

5. The total value of the item with the currency used.

6. The nature of the content (gift, document, a commercial sample, or some other content).

7. For each distinct type of content of the item: Its description, the quantity and unit of measurement, its value, and its net weight.

8. For commercial items: The HS tariff number, the country of origin of the goods.

9. For items that require a Universal Postal Union (UPU) customs declaration form CN23: The importer's reference and details; the type and identifier of each document accompanying the item (invoice, certificate, license, authorization for goods subject to quarantine or other documents depending on the content and origin and destination of the item); other information and observations provided by the mailer and relevant for customs control, including, but not limited to, information about quarantine restrictions and the numbers of any licenses related to the item.

AUTHORITY FOR MAINTENANCE OF THE SYSTEM:

39 U.S.C. 401, 404, and 407; Section 343(a) of the Trade Act of 2002, P.L. 107-210, and international agreements or regulations.

PURPOSE(S):

1. To collect data necessary for customs purposes.

2. To support processes related to the international exchange of mail.

3. To support operational purposes.

ROUTINE USES OF RECORDS IN THE SYSTEM, INCLUDING CATEGORIES OF USERS AND THE PURPOSES OF SUCH USES:

Standard routine uses 1. through 7., 10., and 11.

In addition:

Customs declaration records may be disclosed to domestic customs officials. When USPS has executed an agreement with a foreign postal operator for the exchange of customs declaration records, discretionary routine use disclosures for records exchanged in accordance with the agreement may be further restricted to extent provided by the agreement.

POLICIES AND PRACTICES FOR STORING, RETRIEVING, ACCESSING, RETAINING, AND DISPOSING OF RECORDS IN THE SYSTEM STORAGE:

Automated databases, computer storage media, and digital and paper files.

RETRIEVABILITY:

1. The S10 13-character item identifier or any bilaterally agreed identifier.

2. The full name and postal address of the mailer.

3. The name and postal address of the intended recipient.

4. The gross weight of the item.

5. The total value of the item with the currency used.

6. The nature of the content (gift, document, a commercial sample, or some other content).

7. For each distinct type of content of the item: Its description, the quantity and unit of measurement, its value, and its net weight.

8. For commercial items: The HS tariff number, the country of origin of the goods.

9. For items that require a Universal Postal Union (UPU) customs declaration form CN23: The importer's reference and details; the type and identifier of each document accompanying the item (invoice, certificate, license, authorization for goods subject to quarantine or other documents depending on the content and origin and destination of the item); other information and observations provided by the mailer and relevant for customs control, including, but not limited to, information about quarantine restrictions and the numbers of any licenses related to the item.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RETENTION AND DISPOSAL:

Customs declaration records stored in electronic data systems are retained 5 years, and then purged according to the requirements of domestic and foreign customs services.

Records existing on computer storage media are destroyed according to the applicable USPS media sanitization practice.

SYSTEM MANAGER(S) AND ADDRESS:

Vice President, Network Operations, United States Postal Service, 475 L'Enfant Plaza SW., Washington, DC 20260.

NOTIFICATION PROCEDURE:

Customers wanting to know if other information about them is maintained in this system of records must address inquiries in writing to the system manager, and include their name and address.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers and USPS personnel.

* * * * *

Stanley F. Mires,
Attorney, Legal Policy & Legislative Advice.

[FR Doc. 2014-09906 Filed 4-30-14; 8:45 am]

BILLING CODE 7710-12-P